DEPARTMENT OF STATE

[Public Notice: 9673]

U.S. Advisory Commission on Public Diplomacy

ACTION: Notice of meeting.

The U.S. Advisory Commission on Public Diplomacy will hold a public meeting from 10:00 a.m. until 11:30 a.m., Tuesday, September 20, 2016 in the Dirksen Senate Office Building, Room 106 (on Constitution Ave. NE. between 1st and 2nd Streets, NE) in Washington, DC 20515.

The meeting will be on the “2016 Comprehensive Annual Report on Public Diplomacy and International Broadcasting ” and will feature findings from the Commission's Congressionally-mandated report. Representatives from the State Department and the Broadcasting Board of Governors will be in attendance to discuss it, which focuses on both Washington and field-directed activities.

This meeting is open to the public, members and staff of Congress, the State Department, Defense Department, the media, and other governmental and non-governmental organizations. To attend and make any requests for reasonable accommodation, email pdcommission@state.gov by 5 p.m. on Thursday, September 15, 2016. Please arrive for the meeting by 9:45 a.m. to allow for a prompt meeting start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. William Hybl of Colorado, Chairman; Ambassador Lyndon Olson of Texas, Vice Chairman; Mr. Sim Farar of California, Vice Chairman; Ambassador Penne Korth-Peacock of Texas; Anne Terman Wedner of Illinois; and Ms. Georgette Mosbacher of New York. One seat on the Commission is currently vacant.

The following individual has been nominated to the Commission but awaits Senate confirmation as of this writing: Douglas Wilson of Delaware.

To request further information about the meeting or the U.S. Advisory Commission on Public Diplomacy, you may contact its Senior Advisor, Chris Hensman, at HensmanCD@state.gov.

Dated: August 15, 2016.
Katherine Brown,
Executive Director, Department of State.

[FR Doc. 2016-19632 Filed 8-17-16; 8:45 am]

BILLING CODE 4710-45-P